DEPARTMENT OF TRANSPORTATION

Maritime Administration

[Docket Number: MARAD-2002-13087]

Requested Administrative Waiver of the Coastwise Trade Laws

AGENCY: Maritime Administration, Department of Transportation.

ACTION: Invitation for public comments on a requested administrative waiver of the Coastwise Trade Laws for the vessel GERDA III.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before September 16, 2002.

ADDRESSES: Comments should refer to docket number MARAD-2002-13087. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-build Requirement

(1) Name of vessel and owner for which waiver is requested. Name of vessel: GERDA III. Owner: Museum of Jewish Heritage.

(2) Size, capacity and tonnage of vessel. According to the applicant: “GERDA III's principle dimensions are: Length 39′9″, Beam 14′, Draft 5′10″. The vessel measures 14 Net tons.”

(3) Intended use for vessel, including geographic region of intended operation and trade. According to the applicant:

“We are seeking an Administrative Waiver of Coastwise Trade Laws of the United States in order for GERDA III to be considered an Uninspected Passenger Vessel carrying six or fewer passengers. While the vessel is primarily a static exhibit, we wish to occasionally carry persons other than crew on short day voyages. In strict interpretation of Coastwise Laws these persons other than crew would be construed as passengers—“consideration” possibly being a condition of their carriage. This consideration could be in the form of past, present or future donations of money, goods or services to the owner of the vessel. The purposes of these occasional daysails would be fundraising and development. Limits of navigation would be between New York Harbor and Mystic, Connecticut.”

(4) Date and Place of construction and (if applicable) rebuilding. Date of construction: 1928. Place of construction: Denmark. “Later rebuilt in 1992 by the Ring Anderson Shipyard in Copenhagen.”

(5) A statement on the impact this waiver will have on other commercial passenger vessel operators. According to the applicant: “We expect no direct impact on other commercial passenger vessel operations as a result of the granting this waiver. The vessel will remain principally a static exhibit and only operate as a six passenger Uninspected Passenger Vessel occasionally to attend events and festivals in within the geographical limits described above. It is anticipated the vessels will operate as a UPV fewer than twenty days per year. This operation will not be competitive with other operations and will not be widely promoted. It is anticipated operation will be limited to Museum members and other ‘inside’ supporters. However this waiver will allow more flexible use of the vessel as a fundraising asset of the Museum and insure complete compliance with Coastwise Navigation Laws of the U.S.”

(6) A statement on the impact this waiver will have on U.S. shipyards. According to the applicant: “The granting of this waiver will have no negative impact on U.S. shipyards. Annual maintenance of GERDA III will continue as it has since the vessel arrived in the U.S. Daily caretaking responsibilities are performed by Mystic Seaport staff and volunteers at the duPont Preservation Shipyard at Mystic Seaport, with seasonal haulout performed by local boatyards and independent maintenance and repair contractors in southeastern Connecticut, adding to the maritime economy of this region.”

Dated: August 9, 2002.
By Order of the Maritime Administrator.
Joel C. Richard,
Secretary, Maritime Administration.

[FR Doc. 02-20775 Filed 8-14-02; 8:45 am]

BILLING CODE 4910-81-P